DEPARTMENT OF LABOR

[OMB Control No. 1290-0NEW]

Department of Labor's Restricted Use Data Access Program; Correction

AGENCY: Office of the Assistant Secretary for Policy, Chief Evaluation Office, Department of Labor.

ACTION: Correction.

SUMMARY: In the Federal Register of August 24, 2023, in notice document 2023-18234 on page 57975, make the following correction:

In the subject line correct “Department of Labor's Restricted Use Data Access Program” to read “Secure Transfer, Restricted-Use Data Lake”.

Alix Gould-Werth,
Chief Evaluation Officer, U.S. Department of Labor.

[FR Doc. 2024-21637 Filed 9-24-24; 8:45 am]

BILLING CODE 4510-HX-P